DEPARTMENT OF EDUCATION

Office of Elementary and Secondary Education; Safe and Drug-Free Schools and Communities National Programs; Federal Activities; Effective Alternative Strategies: Grant Competition To Reduce Student Suspensions and Expulsions and Ensure Educational Progress of Students Who Are Suspended or Expelled

AGENCY: Department of Education.

ACTION: Notice of proposed priority and selection criteria for fiscal year (FY) 2000 and subsequent years.

SUMMARY: The Secretary announces a proposed priority and selection criteria for FY 2000 and, at the discretion of the Secretary, for subsequent years under the Safe and Drug-Free Schools and Communities National Programs—Federal Activities-Effective Alternative Strategies: Grant Competition to Reduce Student Suspensions and Expulsions and Ensure Educational Progress of Suspended and Expelled Students. The Secretary takes this action to focus Federal financial assistance on an identified national need to reduce student suspensions and expulsions and ensure educational progress of suspended and expelled students.

DATES: We must receive your comments on or before March 15, 2000.

ADDRESSES: All comments concerning this proposed priority and selection criteria should be addressed to Dr. Ann Weinheimer, U.S. Department of Education, 400 Maryland Avenue, SW—Room 3E330, Washington, DC 20202-6123. Comments also may be sent via the Internet: comments@ed.gov. You must include the phrase “Reduce Student Suspensions and Expulsions and Ensure Educational Progress of Suspended and Expelled Students” in the subject line of your electronic message.

FOR FURTHER INFORMATION CONTACT: Dr. Ann Weinheimer, (202) 708-5939. Individuals who use a telecommunication device for the deaf (TDD) may call the Federal Information Relay Service (FIRS) at (800) 877-8339 between 8:00 a.m. and 8:00 p.m., Eastern time, Monday through Friday.

Individuals with disabilities may obtain this document in an alternate format (e.g., Braille, large print, audiotape, or computer diskette) on request to the contact person listed in the preceding paragraph.

Note: This notice of proposed priority does not solicit applications. A notice inviting applications under this competition will be published in the Federal Register concurrent with or following the publication of the notice of final priority. The notice inviting applications will specify the date and time by which applications for this competition must be received by the Department. Applications received after that time will not be eligible for funding. Postmarked dates will not be accepted.

SUPPLEMENTARY INFORMATION:

Invitation to Comment

Interested persons are invited to submit comments and recommendations regarding this proposed priority and selection criteria. All comments submitted in response to this notice will be available for public inspection, during and after the comment period, at 400 Maryland Avenue, SW—Room 3E330, Washington, DC, between the hours of 8:00 a.m. and 4:00 p.m., Eastern time, Monday through Friday of each week except Federal holidays.

Assistance to Individuals With Disabilities in Reviewing the Rulemaking Record

On request, the Department supplies an appropriate aid, such as a reader or print magnifier, to an individual with a disability that needs assistance to review the comments. An individual with a disability who wants to schedule an appointment for this type of aid may call (202) 205-8113 or (202) 260-9895. Individuals who use a telecommunications device for the deaf (TDD) may call the Federal Information Relay Service (FIRS) at (800) 877-8339, between 8:00 a.m. and 8:00 p.m., Eastern time, Monday through Friday.

General

The Secretary will announce the final priority in a notice in the Federal Register. The final priority will be determined by responses to this notice, available funds, and other considerations of the Department. Funding of a particular project depends on the final priority, the availability of funds, and the quality of the applications received. The publication of this proposed priority does not preclude the Secretary from proposing additional priorities, nor does it limit the Secretary to funding only this priority, subject to meeting applicable rulemaking requirements. In making awards under this grant program, the Secretary may take into consideration the geographic distribution of the projects in addition to the rank order of applicants.

Contingent upon the availability of funds, the Secretary may make additional awards in Fiscal Year 2001 from the rank-ordered list of nonfunded applications from this competition.

Absolute Priority

Under 34 CFR 75.105(c)(3) and the Safe and Drug-Free Schools and Communities Act of 1994, the Secretary proposes to give an absolute preference to applications that meet the following priority. The Secretary proposes to fund under this competition only those applications that meet this absolute priority: Absolute Priority—Enhance, Implement, and Evaluate Strategies to Reduce the Number and Duration of Student Suspensions and Expulsions and Ensure Continued Educational Progress for Students Who Are Suspended or Expelled From School.

Eligible Applicants

Eligible applicants under this competition are public and private non-profit organizations and individuals.

Selection Criteria

The Secretary proposes to use the following selection criteria to evaluate applications for new grants under this competition. The maximum score for all of these criteria is 100 points. The maximum score for each criterion or factor under that criterion is indicated in parentheses.

(1) Need for Project (10 points)

In determining the need for the proposed project the following factor is considered: The extent to which specific gaps or weaknesses in services, infrastructure, or opportunities have been identified and will be addressed by the proposed project, including the nature and magnitude of those gaps or weaknesses.

(2) Quality of the Project Design (30 points)

In determining the quality of the design of the proposed project, the following factors are considered:

(A) The extent to which the goals, objectives, and outcomes to be achieved by the proposed project are clearly specified and measurable. (6 points)

(B) The extent to which the proposed project encourages parental involvement. (6 points)

(C) The extent to which the design of the proposed project is appropriate to, and will successfully address, the needs of the target population or other identified needs. (6 points)

(D) The extent to which the proposed project represents an exceptional approach to the priority. (6 points)

(E) The extent to which the proposed project will be coordinated with similar or related efforts, and with other appropriate community, State and Federal resources. (6 points)

(3) Quality of Project Services (30 points)

In determining the quality of the proposed project services, the following factors are considered:

(A) The extent to which the quality and sufficiency of strategies for ensuring equal access and treatment for eligible project participants who are members of groups that have traditionally been underrepresented based on race, color, national origin, gender, age or disability. (6 points)

(B) The extent to which the services to be provided by the proposed project are appropriate to the needs of the intended recipients or beneficiaries of those services. (8 points)

(C) The likelihood that the services to be provided by the proposed project will lead to improvements in the achievement of students as measured against rigorous academic standards. (8 points)

(D) The extent to which the services to be provided by the proposed project involve the collaboration of appropriate community partners for maximizing the effectiveness of project services. (8 points)

(4) Quality of Project Personnel (15 points)

In determining the quality of project personnel, the following factors are considered:

(A) The extent to which the applicant encourages applications for employment from persons who are members of groups that have traditionally been underrepresented based on race, color, national origin, gender, age, or disability. (5 points)

(B) The qualifications, including relevant training and experience, of key project personnel. (10 points)

(5) Quality of the Project Evaluation (15 points)

In determining the quality of the evaluation, the following factors are considered:

(A) The extent to which the methods of evaluation are thorough, feasible, and appropriate to the goals, objectives, and outcomes of the proposed project. (10 points)

(B) The extent to which the methods of evaluation will provide performance feedback and permit periodic assessment of progress toward achieving intended outcomes. (5 points)

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Program Authority: 20 U.S.C. 7131.

Electronic Access to This Document

Anyone may view this document, as well as all other Department of Education documents published in the Federal Register, in text or portable document format (PDF) on the Internet at either of the following sites

http://ocfo.ed.gov/fedreg.htm

http://www.ed.gov/news.html

To use the PDF, you must have the Adobe Acrobat Reader Program with Search, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

(Catalog of Federal Domestic Assistance Number 84.184H Office of Elementary and Secondary Education—Safe and Drug-Free Schools and Communities National Programs—Federal Activities—Grant Competition to Reduce Student Suspensions and Expulsions, and Ensure Educational Progress of Suspended and Expelled Students)

Dated: February 9, 2000.
Michael Cohen,
Assistant Secretary for Elementary and Secondary Education.

[FR Doc. 00-3476 Filed 2-11-00; 8:45 am]

BILLING CODE 4000-01-U